NATIONAL LABOR RELATIONS BOARD

[53 FR 10305]

Merger of Regional Offices

AGENCY: National Labor Relations Board.

ACTION: Final notice.

Notice of change in status of the Milwaukee Regional Office to Subregional Office (Subregion 30) of the Minneapolis Regional Office and transfer of supervision over the Des Moines Resident Office from the Minneapolis Regional Office to the Kansas City Regional Office.

SUMMARY: The National Labor Relations Board is reorganizing the structure of its office in Milwaukee, Wisconsin to restructure it from a Regional Office to a subregion of the Minneapolis Regional Office. As part of this reorganization, the supervision of the Des Moines Resident Office will be transferred from the Minneapolis Regional Office to the Kansas City Regional Office. The National Labor Relations Board is revising its Statement of Organization and Functions accordingly.

SUPPLEMENTARY INFORMATION: The National Labor Relations Board has decided to restructure the status of the Agency's Milwaukee office from a Regional Office to a Subregion of the Minneapolis Regional Office and to transfer supervision of the Des Moines Resident Office from the Minneapolis Regional Office to the Kansas City Regional Office. These change are prompted by a decline in unfair labor practice and representation case filings in the Minneapolis and Milwaukee offices and a desire to equalize caseload and case management responsibilities in the three contiguous NLRB regions.

Twenty-four comments were received in response to the notice of proposed merger published in the Federal Register on June 2, 2004. Those comments exclusively addressed the merger of Region 18 (Minneapolis) and Region 30 (Milwaukee). Each of the comments opposed the action proposed. The reasons advanced by the comments can be summarized as follows:

1. Access by Wisconsin practitioners to the Regional Director deciding their cases will be impeded and representatives will lose their ability to advocate directly to the Regional Director.

2. The addition of Milwaukee's caseload to Region 18 will create overload and slow down case decisions.

3. Combining the offices to save the cost of a Regional Director salary is not sufficient to justify the change and will be offset by such costs as travel between the offices and transportation of files.

4. Insofar as the proposal is based upon a decline in case intake in Region 30, that decline is transient and case intake will increase in the future.

5. Having a smaller office absorb a larger office seems justified only because the Milwaukee Regional Director position is currently vacant, not a logical rationale for a decision to reorganize.

6. There are other small offices (Regions 11 (Winston-Salem), 15 (New Orleans) and 34 (Hartford)) that are not being consolidated.

7. The merger will have a deleterious effect on promotional opportunities and the morale and retention of Milwaukee employees.

The comments received were carefully considered. The Board (Chairman Robert J. Battista and Members Peter C. Schaumber and Ronald Meisburg; Members Liebman and Walsh dissenting) has approved the merger and restructuring set forth in the proposed notice of merger. The Board majority has confidence that the concerns raised by the comments will be addressed productively and successfully by the staffs of the Minneapolis and Milwaukee offices with the cooperation of the management-labor bar and the labor-relations communities in the State of Wisconsin. The Board majority also noted that similar concerns have been successfully addressed in other prior restructuring efforts; advances in technology have made communication far easier and will allow the Regional Director in Minneapolis to establish and maintain close relations with the Milwaukee Office and stakeholders of the Agency in Wisconsin; that the increased size of the case intake of the restructured Region will not negatively impact on the quality or efficiency of case processing; that the merged region will be a mid-level region in terms of intake and staffing level; and that while not dramatic, the cost savings to be realized by the merger are not insubstantial.

The Milwaukee Subregional Office will be headed by an Officer-in-Charge who will report to the Regional Director in Minneapolis. This change will vest the Regional Director in the Minneapolis Regional Office with casehandling authority for the geographic area covered by the Milwaukee Subregional Office. The geographic area covered by the Milwaukee Subregion will be the same as that covered by the Milwaukee Regional Office. The Statement of Organization and Functions published at 53 FR 10305-10308 on March 30, 1998, is revised to reflect the addition of Subregion 30, the elimination of Region 30 and the transfer of the territory in the State of Iowa served by the Des Moines Resident Office from Region 18, Minneapolis, to Region 17, Kansas City.

EFFECTIVE DATE: The changes announced above shall be effective on January 13, 2005.

Dated: Washington, DC December 9, 2004.
By direction of the Board.
Lester A. Heltzer,
Executive Secretary.

[FR Doc. 04-27344 Filed 12-13-04; 8:45 am]

BILLING CODE 7545-01-P